FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 2, 2020.

A. Federal Reserve Bank of Kansas City (Dennis Denney, Assistant Vice President) 1 Memorial Drive, Kansas City, Missouri 64198-0001:

1. Rebecca McClure and Miles McClure, both individually and as co-trustees for the Aspen Living Trust II, all of Colorado Springs, Colorado; Timothy and Cynthia Jacobson, as co-trustees for the Jacobson Family Living Trust, all of Greenville, South Carolina; Jon McClure, Stafford, Kansas, individually, and with Cynthia Jacobson, as co-trustees for the Evergreen Revocable Trust, both of Greenville, South Carolina; Barbara Fox, Visalia, California; Marcus McClure, Exeter, California; and Mallori Miller, Alexandria, Virginia; to be become members of the McClure Control Group, a group acting in concert, to retain voting shares of First Flo Corporation, and thereby indirectly retain voting shares of Rocky Mountain Bank and Trust, both of Florence, Colorado.

Board of Governors of the Federal Reserve System, November 12, 2020.
Michele Taylor Fennell,
Deputy Associate Secretary of the Board.

[FR Doc. 2020-25327 Filed 11-16-20; 8:45 am]

BILLING CODE P